DEPARTMENT OF COMMERCE

National Oceanic and Atmospheric Administration

RIN 0648-XE161

Mid-Atlantic Fishery Management Council (MAFMC); Public Meetings

AGENCY: National Marine Fisheries Service (NMFS), National Oceanic and Atmospheric Administration (NOAA), Commerce.

ACTION: Notice; public meetings.

SUMMARY: The Mid-Atlantic Fishery Management Council's (Council) Spiny Dogfish Monitoring Committee will hold a public meeting to develop spiny dogfish management recommendations. The Council will also host a public information meeting to gather public perspectives on spiny dogfish management.

DATES: The meetings will be held on Tuesday, Sept. 22, 2015, from 9:30 a.m. to 12 p.m. for the Monitoring Committee and from 6 p.m. to 8 p.m. (on the same day) for the public information meeting. For agenda details, see SUPPLEMENTARY INFORMATION.

ADDRESSES: The meeting will be held via webinar. Webinar connection details will be available at: http://www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council's Spiny Dogfish Monitoring Committee will meet Tuesday, September 22, 2015 at 9:30 a.m. to develop 2016-18 spiny dogfish management measure recommendations based on the Acceptable Biological Catch (ABC) recommendations of the Council's Scientific and Statistical Committee (SSC). A summary of current management is available at: http://www.greateratlantic.fisheries.noaa.gov/regs/infodocs/spinydogfactsheet.pdf. At 6 p.m. on the same day, Council staff will hold a public information meeting to gather public perspectives on spiny dogfish management. The results of both meetings will be summarized for the Council when it meets in October 2015 to set spiny dogfish specifications and associated management measures. Contact Jason Didden at 302-526-5254 if you have questions about using a webinar to participate in a meeting.

Special Accommodations

These meetings are physically accessible to people with disabilities. Requests for sign language interpretation or other auxiliary aid should be directed to M. Jan Saunders, (302) 526-5251, at least 5 days prior to the meeting date.

Dated: September 1, 2015.
Tracey L. Thompson,
Acting Deputy Director, Office of Sustainable Fisheries, National Marine Fisheries Service.

[FR Doc. 2015-21993 Filed 9-3-15; 8:45 am]

BILLING CODE 3510-22-P